NUCLEAR REGULATORY COMMISSION

10 CFR Part 72

[NRC-2018-0221, NRC-2019-0030, and NRC-2019-0160]

RIN 3150-AK18, 3150-AK28, and 3150-AK36

List of Approved Spent Fuel Storage Casks: Holtec International HI-STORM 100 Multipurpose Canister Cask System, Certificate of Compliance No. 1014, Amendment Nos. 11, 12, 13, and 14; Corrections

AGENCY: Nuclear Regulatory Commission.

ACTION: Correcting amendments.

SUMMARY: The U.S. Nuclear Regulatory Commission (NRC) published three direct final rules in the Federal Register on December 12, 2018, February 26, 2019, and October 3, 2019, that amended its spent fuel storage regulations by revising the Holtec International HI-STORM 100 Multipurpose Canister Cask System listing within the “List of approved spent fuel storage casks” to include Amendment Nos. 11, 12, 13, and 14, respectively, to Certificate of Compliance No. 1014. The technical specifications for Amendment Nos. 11, 12, 13, and 14 contained minor editorial and non-substantive errors. The purpose of this action is to correct these errors.

DATES: This rule is effective on December 23, 2019.

ADDRESSES: For Amendment Nos. 11 and 12, please refer to Docket ID NRC-2018-0221; for Amendment No. 13, please refer to Docket ID NRC-2019-0030; and for Amendment No. 14, please refer to Docket ID NRC-2019-0160 when contacting the NRC about the availability of information for this action. You may obtain publicly-available information related to this action using any of the following methods:

• Federal Rulemaking Website: Go to https://www.regulations.gov and search for Docket IDs NRC-2018-0221, NRC-2019-0030, or NRC-2019-0160. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

FOR FURTHER INFORMATION CONTACT: Yen-Ju Chen, Office of Nuclear Material Safety and Safeguards, U.S. Nuclear Regulatory Commission, Washington, DC 20555-0001; telephone: 301-415-1018; email: Yen-Ju.Chen@nrc.gov.

SUPPLEMENTARY INFORMATION: The NRC published three direct final rules in the Federal Register on December 12, 2018 (83 FR 63794), February 26, 2019 (84 FR 6055), and October 3, 2019 (84 FR 52747), amending its regulations in part 72 of title 10 of the Code of Federal Regulations (10 CFR) by revising the “List of approved spent fuel storage casks” to add Amendment Nos. 11 and 12, 13, and 14, respectively, to Certificate of Compliance No. 1014 for the Holtec International HI-STORM 100 Multipurpose Canister Cask System listing. Amendment Nos. 11 and 12 became effective on February 25, 2019; Amendment No. 13 became effective on May 13, 2019; and Amendment No. 14 became effective on December 17, 2019. The technical specifications for these direct final rules contained minor editorial and non-substantive errors. Specifically, Table 3-2 refers to Tables 3-3 and 3-4 for per cell decay heat load limits for the multi-purpose canisters (MPCs) MPC-68/68F/68FF/68M, but Tables 3-3 and 3-4 omitted the MPC-68M.

The NRC previously reviewed and approved the use of model MPC-68M in Amendment No. 8 to Certificate of Compliance No. 1014. In Amendment No. 9, the NRC added Tables 3-3 and 3-4 and, in Table 3-2, added a reference to decay heat loads in Tables 3-3 and 3-4. The reference in Appendix A, Table 3-2, refers to Table 3-3 and 3-4 for the per cell heat load limits for the MPC-68/68F/68FF/68M. However, Tables 3-3 and 3-4 only have rows for MPC-68/68F/68FF and do not specifically include the MPC-68M. Since the decay heat load, whether uniform or regionalized, for all 68 cell MPCs are identical, and the NRC previously reviewed and approved this heat load, it is evident that the omission of MPC-68M in Tables 3-3 and 3-4 was an editorial error. Although this error is editorial and has no impact on the loading of MPCs, it is still appropriate to correct the error. Correcting this error would not change the substantive responsibilities of any person or entity regulated by the NRC. This error has been corrected in Amendment No. 9, Revision 1, and Amendment No. 10 on August 31, 2017 (82 FR 41321).

The NRC is correcting the typographical error in Amendment Nos. 11, 12, 13, and 14 by adding MPC-68M to Appendix A, Tables 3-3 and 3-4. The NRC also is revising Amendment Nos. 11, 12, 13, and 14 to Certificate of Compliance No. 1014 of the Holtec International HI-STORM 100 Multipurpose Canister Cask System listings within 10 CFR 72.214 to note the corrections.

Rulemaking Procedure

Under the Administrative Procedure Act (5 U.S.C. 553(b)), an agency may waive the normal notice and comment requirements if it finds, for good cause, that they are impracticable, unnecessary, or contrary to the public interest. As authorized by 5 U.S.C. 553(b)(3)(B), the NRC finds good cause to waive notice and opportunity for comment on this correction because it will have no substantive impact and is of a minor and administrative nature dealing with a correction to a CFR section. Specifically, this amendment is to correct a minor editorial and non-substantive error. This correction does not require action by any person or entity regulated by the NRC. Also, this final rule does not change the substantive responsibilities of any person or entity regulated by the NRC. Accordingly, for the reasons stated in this document, the NRC finds, pursuant to 5 U.S.C. 553(d)(3), that good cause exists to make this rule effective upon publication.

List of Subjects in 10 CFR Part 72

Administrative practice and procedures, Hazardous waste, Indians, Intergovernmental relations, Nuclear energy, Penalties, Radiation protection, Reporting and recordkeeping requirements, Security measures, Spent fuel, Whistleblowing.

For the reasons set out in the preamble and under the authority of the Atomic Energy Act of 1954, as amended; the Energy Reorganization Act of 1974, as amended; the Nuclear Waste Policy Act of 1982, as amended; and 5 U.S.C. 552 and 553; the NRC is making the following correcting amendment to 10 CFR part 72:

PART 72—LICENSING REQUIREMENTS FOR THE INDEPENDENT STORAGE OF SPENT NUCLEAR FUEL, HIGH-LEVEL RADIOACTIVE WASTE, AND REACTOR-RELATED GREATER THAN CLASS C WASTE

1. The authority citation for part 72 continues to read as follows:

Authority: Atomic Energy Act of 1954, secs. 51, 53, 57, 62, 63, 65, 69, 81, 161, 182, 183, 184, 186, 187, 189, 223, 234, 274 (42 U.S.C. 2071, 2073, 2077, 2092, 2093, 2095, 2099, 2111, 2201, 2210e, 2232, 2233, 2234, 2236, 2237, 2238, 2273, 2282, 2021); Energy Reorganization Act of 1974, secs. 201, 202, 206, 211 (42 U.S.C. 5841, 5842, 5846, 5851); National Environmental Policy Act of 1969 (42 U.S.C. 4332); Nuclear Waste Policy Act of 1982, secs. 117(a), 132, 133, 134, 135, 137, 141, 145(g), 148, 218(a) (42 U.S.C. 10137(a), 10152, 10153, 10154, 10155, 10157, 10161, 10165(g), 10168, 10198(a)); 44 U.S.C. 3504 note.

2. In § 72.214, Certificate of Compliance 1014 is amended to read as follows:

§ 72.214 List of approved spent fuel storage casks.

* * * * *

Certificate Number: 1014.

Initial Certificate Effective Date: May 31, 2000.

Amendment Number 1 Effective Date: July 15, 2002.

Amendment Number 2 Effective Date: June 7, 2005.

Amendment Number 3 Effective Date: May 29, 2007.

Amendment Number 4 Effective Date: January 8, 2008.

Amendment Number 5 Effective Date: July 14, 2008.

Amendment Number 6 Effective Date: August 17, 2009.

Amendment Number 7 Effective Date: December 28, 2009.

Amendment Number 8 Effective Date: May 2, 2012, as corrected on November 16, 2012 (ADAMS Accession No. ML12213A170); superseded by Amendment 8, Revision 1 Effective Date: February 16, 2016.

Amendment Number 8, Revision 1 Effective Date: February 16, 2016.

Amendment Number 9 Effective Date: March 11, 2014, superseded by Amendment Number 9, Revision 1, on March 21, 2016.

Amendment Number 9, Revision 1, Effective Date: March 21, 2016, as corrected (ADAMS Accession No. ML17236A451).

Amendment Number 10 Effective Date: May 31, 2016, as corrected (ADAMS Accession No. ML17236A452).

Amendment Number 11 Effective Date: February 25, 2019, as corrected (ADAMS Accession No. ML19343B024).

Amendment Number 12 Effective Date: February 25, 2019, as corrected on May 30, 2019 (ADAMS Accession No. ML19109A111); further corrected December 23, 2019 (ADAMS Accession No. ML19343A908).

Amendment Number 13 Effective Date: May 13, 2019, as corrected on May 30, 2019 (ADAMS Accession No. ML19109A122); further corrected December 23, 2019 (ADAMS Accession No. ML19343B156).

Amendment Number 14 Effective Date: December 17, 2019, as corrected (ADAMS Accession No. ML19343B287).

Safety Analysis Report (SAR) Submitted by: Holtec International.

SAR Title: Final Safety Analysis Report for the HI-STORM 100 Cask System.

Docket Number: 72-1014.

Certificate Expiration Date: May 31, 2020.

Model Number: HI-STORM 100.

* * * * *

Dated at Rockville, Maryland, this 17th day of December, 2019.
For the Nuclear Regulatory Commission.
Cindy K. Bladey,
Chief, Regulatory Analysis and Rulemaking Support Branch, Division of Rulemaking, Environmental, and Financial Support Office of Nuclear Material Safety and Safeguards.

[FR Doc. 2019-27595 Filed 12-20-19; 8:45 am]

BILLING CODE 7590-01-P